DEPARTMENT OF COMMERCE

International Trade Administration

[A-570-912]

Certain New Pneumatic Off-the-Road Tires From the People's Republic of China: Notice of Decision of the Court of International Trade Not in Harmony

AGENCY: Import Administration, International Trade Administration, Department of Commerce.

SUMMARY: On October 1, 2010, the United States Court of International Trade (“CIT”) sustained the remand redetermination made by the Department of Commerce (“Department”) pursuant to the CIT's remand of the final determination in the antidumping duty investigation on certain new pneumatic off-the-road tires (“OTR tires”) from the People's Republic of China (“PRC”). See GPX Int'l Tire Corp. v. United States, Consol. Ct. No. 08-00285, Slip Op. 10-112 (Ct. Int'l Trade October 1, 2010) (“GPX III”). This case arises out of the Department's final determination in the antidumping investigation on OTR tires from the PRC. The final judgment in this case was not in harmony with the Department's July 2008 final determination.

DATES: Effective Date: October 12, 2010.

FOR FURTHER INFORMATION CONTACT: Lilit Astvatsatrian or Charles Riggle, AD/CVD Operations, Office 8, Import Administration, International Trade Administration, U.S. Department of Commerce, 14th Street and Constitution Avenue, NW., Washington, DC 20230; telephone (202) 482-6412 or (202) 482-0650, respectively.

SUPPLEMENTARY INFORMATION: In July 2008, the Department published a final determination in which it determined that OTR tires from the PRC are being, or are likely to be, sold in the United States as less than fair value as provided in section 735 of the Tariff Act of 1930, as amended (“Act”). See Certain New Pneumatic Off-The-Road-Tires from the People's Republic of China: Final Affirmative Determination of Sales at Less Than Fair Value and Partial Affirmative Determination of Critical Circumstances, 73 FR 40485 (July 15, 2008) (“Final Determination”), as amended by Certain New Pneumatic Off-the-Road Tires from the People's Republic of China: Notice of Amended Final Affirmative Determination of Sales at Less than Fair Value and Antidumping Duty Order, 73 FR 51624 (September 4, 2008).

Respondent company Hebei Starbright Tire Co., Ltd. (“Starbright”), its importer GPX International Tire Corporation (“GPX”), petitioners Titan Tire Corporation and the United Steel, Paper and Forestry, Rubber, Manufacturing, Energy, Allied and Industrial Service Workers International Union, AFL-CIO-CLC (collectively, “Titan”), and domestic interested party Bridgestone Americas, Inc. and Bridgestone Americas Tire Operations, LLC (collectively, “Bridgestone”), each timely challenged various aspects of the Final Determination to the CIT. Among the issues raised before the Court was the valuation of wire input consumed by two of the respondent companies, Starbright and Tianjin United Tire & Rubber International Co., Ltd. (“TUTRIC”), under the factors of production methodology to calculate normal value in a non-market economy country pursuant to section 773(c)(1)(B) of the Act.

On August 4, 2010, pursuant to the Department's request for a voluntary remand, the CIT remanded the wire input valuation issue to the Department for reconsideration or further explanation. See GPX Int'l Tire Corp. v. United States, Consol. Ct. No. 08-00285, Slip Op. 10-84 at *19-*20, *28 (Ct. Int'l Trade August 4, 2010) (“GPX II”). In a remand redetermination filed on September 3, 2010, the Department determined that record evidence supported using a different surrogate value for the wire input consumed by Starbright and TUTRIC in the production of OTR tires. See Second Remand Redetermination, GPX Int'l Tire Corp. v. United States, Consol. Ct. No. 08-00285, dated September 3, 2010, at 4-9. As a result of this change, the weighted-average dumping margin calculated for subject merchandise produced by Starbright and exported by Starbright/GPX changed from 29.93 percent to 31.79 percent, the weighted-average dumping margin calculated for subject merchandise produced and exported by TUTRIC changed from 8.44 percent to 10.08 percent, and the weighted-average dumping margin calculated for separate rate companies changed from 12.19 percent to 13.92 percent. Id. at 9-12. The CIT affirmed the Department's remand redetermination on October 1, 2010. See GPX III.

Timken Notice

In its decision in Timken Co., v. United States, 893 F. 2d 337, 341 (Fed. Cir. 1990) (“Timken”), the United States Court of Appeals for the Federal Circuit held that, pursuant to section 516A(e) of the Act, the Department must publish a notice of a court decision that is not “in harmony” with a Department determination and must suspend liquidation of entries pending a “conclusive” court decision. The CIT's GPX III decision of October 1, 2010, constitutes a final decision of that court that is not in harmony with the Department's Final Determination. This notice is published in fulfillment of the publication requirements of Timken. Accordingly, the Department will continue the suspension of liquidation of the subject merchandise pending the expiration of the period of appeal or, if appealed, pending a final and conclusive court decision. In the event the CIT's decision is not appealed or is affirmed on appeal, the Department will publish an amended final determination revising the weighted-average dumping margin calculated for Starbright/GPX, TUTRIC, and the separate rate companies and will issue revised cash deposit instructions to U.S. Customs and Border Protection.

This notice is issued and published in accordance with section 516A(c)(1) of the Act.

Dated: October 6, 2010.
Ronald K. Lorentzen,
Deputy Assistant Secretary for Import Administration.

[FR Doc. 2010-25688 Filed 10-8-10; 8:45 am]

BILLING CODE 3510-DS-P